DEPARTMENT OF JUSTICE

Federal Bureau of Investigation

Agency Information Collection Activities: New Collection; Comment Request

ACTION: Notice of Information Collection Under Review; Emergency Law Enforcement Services Vulnerability; New Collection.

The Department of Justice, Federal Bureau of Investigation, has submitted the following information collection request for review and clearance in accordance with the Paperwork Reduction Act of 1995. The proposed information collection is published to obtain comments from the public and affected agencies. Comments are encouraged and will be accepted for “thirty days” until March 23, 2000. The 60-day notice was previously published in the Federal Register on December 17, 1999, allowing for a 60-day public comment period. No comments were received by the FBI or the Justice Department.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information; including the validity of the methodology and assumptions used;

(3) Enhance the quality, utility, and clarity of the information to be collected; and

(4) Minimize the burden of the collection of information on those who are to respond, including through the use of appropriate automated, electronic, mechanical, or other technological collection techniques or forms of information technology, e.g., permitting electronic submission of responses.

Overview of this information collection:

(1) Type of Information Collection: New collection.

(2) Title of the Form/Collection: Emergency Law Enforcement Services Vulnerability.

(3) Agency form number, if any, and the applicable component of the Department of Justice sponsoring the collection: Form number 2-240. Federal Bureau of Investigation, FBI Academy.

(4) Affected public who will be asked or required to respond, as well as a brief abstract: Primary: State and Local Law Enforcement Agencies. This form is used to collect feedback from state and local law enforcement agencies regarding their infrastructure vulnerabilities.

(5) An estimate of the total number of respondents and the amount of time estimated for an average respondent to respond: 3,200 responses at 30 minutes (0.50) per response.

(6) An estimate of the total public burden (in hours) associated with the collection: 1,600.00 annual burden hours.

If you have additional comments, suggestions, or need a copy of the proposed information collection instrument with instructions, or additional information, please contact Department of Justice Desk Officer, Office of Management and Budget. Written comments and/or suggestions regarding the items contained in this notice, especially regarding the estimated public burden and associated response time, should also be directed to the Office of Management and Budget, Office of Information and Regulatory Affairs, Attention Department of Justice Desk Officer, New Executive Office Building, Washington, DC 20530.

If additional information is required contact: Mr. Robert B. Briggs, Clearance Officer, United States Department of Justice, Information Management and Security Staff, Justice Management Division, suite 1220, National Place Building, 1331 Pennsylvania Avenue N.W., Washington DC 20530.

Dated: February 14, 2000.
Robert B. Briggs,
Department Clearance Officer, Department of Justice.

[FR Doc. 00-4019 Filed 2-18-00; 8:45 am]

BILLING CODE 4410-02-M